DEPARTMENT OF COMMERCE

National Oceanic and Atmospheric Administration

[RTID 0648-XB241]

Mid-Atlantic Fishery Management Council (MAFMC); Public Meetings

AGENCY: National Marine Fisheries Service (NMFS), National Oceanic and Atmospheric Administration (NOAA), Commerce.

ACTION: Notice; public meetings.

SUMMARY: The Mid-Atlantic Fishery Management Council (Council) will hold a four-day meeting to consider actions affecting Mid-Atlantic fisheries in the exclusive economic zone (EEZ). This will be conducted as a hybrid meeting, with options to participate in person or virtually. Portions of the meeting will be conducted jointly with the Atlantic States Marine Fisheries Commission's Bluefish Management Board, Summer Flounder, Scup, and Black Sea Bass Management Board, and Interstate Fisheries Management Program Policy Board.

DATES: The meeting will be held Monday, August 9, 2021, from 9:30 a.m. to 4:30 p.m., Tuesday, August 10, 2021, from 9 a.m. to 5 p.m., Wednesday, August 11, 2021, from 9 a.m. to 5 p.m., and Thursday, August 12, 2021, from 9 a.m. to 1 p.m. For agenda details, see SUPPLEMENTARY INFORMATION.

ADDRESSES: The meeting will be a hybrid meeting offering both in-person and virtual options for attending the meeting. Council members, other meeting participants, and members of the public will have the option to participate in person at the Notary Hotel, located at 21 N Juniper St., Philadelphia, PA 19107, or via Webex webinar. Webinar connection information can be accessed at www.mafmc.org.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar information, and briefing materials.

SUPPLEMENTARY INFORMATION: The following items are on the agenda, though agenda items may be addressed out of order (changes will be noted on the Council's website when possible.)

Monday, August 9, 2021

Bluefish 2022-23 Specifications

Review recommendations from the Scientific and Statistical Committee (SSC), Monitoring Committee, Advisory Panel, and staff and adopt specifications for 2022-23.

ASMFC Bluefish Fishery Management Plan Review (Bluefish Board only).

Summer Flounder 2022-23 Specifications

Review recommendations from the SSC, Monitoring Committee, Advisory Panel, and staff and adopt specifications for 2022-23.

Scup 2022-23 Specifications

Review recommendations from the SSC, Monitoring Committee, Advisory Panel, and staff and adopt specifications for 2022-23.

Black Sea Bass 2022-23 Specifications

Review recommendations from the SSC, Monitoring Committee, Advisory Panel, and staff and adopt specifications for 2022-23.

Tuesday, August 10, 2021

Recreational Harvest Control Rule Framework/Addendum (Framework Meeting #1)

Review and approve initial range of alternatives and discuss next steps.

Ecosystem Approach to Fisheries Management Summer Flounder Management Strategy Evaluation

Review core group recommendations and determine MSE objectives and alternatives.

Summer Flounder, Scup, and Black Sea Bass Commercial/Recreational Allocation Amendment

Consider approval of any Council/Board proposals for additional alternatives.

North Atlantic Right Whales

Presentation on Atlantic Large Whale Take Reduction Team Scoping for Risk Reduction Measures for Atlantic Trap/Pot and Gillnet Fisheries.

Council Awards and Acknowledgements

Wednesday, August 11, 2021

Swearing In of New and Reappointed Council Members

Election of Officers

Golden Tilefish—Multi-Year Specifications Framework—Meeting #2

Review recommendations for golden tilefish specifications from the Advisory Panel, SSC, Monitoring Committee, and staff and recommend any changes to (previously set) 2022 golden tilefish specifications if necessary.

Approve 2023-24 golden tilefish specifications.

Review alternatives and approve Framework document for submission (final action).

Atlantic Mackerel Specifications and/or Emergency Action

Review assessment results and consider specifications and/or requesting emergency action pending rebuilding plan modification.

Atlantic Mackerel Rebuilding Modifications Framework—Meeting #1

Review options for revised rebuilding plan and set range of alternatives and request additional options and analysis if needed.

Joint Council-SSC Meeting

Thursday, August 12, 2021

Business Session

Committee Reports; Executive Director's Report (approve revised NTAP charter); Organization Reports; and Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c), provided the public has been notified of the Council's intent to take final action to address the emergency.

Special Accommodations

The meeting is physically accessible to people with disabilities. Requests for sign language interpretation or other auxiliary aids should be directed to Kathy Collins at the Council Office, (302) 526-5253, at least 5 days prior to the meeting date.

Authority: 16 U.S.C. 1801 et seq.

Dated: July 12, 2021.
Tracey L. Thompson,
Acting Deputy Director, Office of Sustainable Fisheries, National Marine Fisheries Service.

[FR Doc. 2021-15100 Filed 7-15-21; 8:45 am]

BILLING CODE 3510-22-P